DEPARTMENT OF TRANSPORTATION

Federal Aviation Administration

[Docket No. FAA-2022-1259]

Agency Information Collection Activities: Requests for Comments; Clearance of Approval for Renewed Information Collection: Service Availability Prediction Tool (SAPT)

AGENCY: Federal Aviation Administration (FAA), DOT.

ACTION: Notice and request for comments.

SUMMARY: In accordance with the Paperwork Reduction Act of 1995, FAA invites public comments about our intention to request the Office of Management and Budget (OMB) approval to renew an information collection. The collection involves planned routes of flight and aircraft avionics equipment. The information that is collected will be used to predict whether an aircraft flying the proposed route of flight will have sufficient position accuracy and integrity for the following: (1) Navigation, via the Receiver Autonomous Integrity Monitoring (RAIM) SAPT; (2) Surveillance, via the Automatic Dependent Surveillance—Broadcast (ADS-B) SAPT. In addition, the website will allow operators to request authorization to operate in ADS-B-Out rule airspace with aircraft that do not fully meet the ADS-B Out requirements via: (3) ADS-B Deviation Authorization Pre-flight Tool (ADAPT)

DATES: Written comments should be submitted by November 25, 2022.

ADDRESSES: Please send written comments:

By Electronic Docket: www.regulations.gov (Enter docket number into search field)

By mail: Send comments to FAA at the following address: Mr. Evan Setzer, Program Manager, Surveillance and Broadcast Services, AJM-42, Program Management Organization, Federal Aviation Administration, 600 Independence Ave. SW, Wilbur Wright Building, Washington, DC 20597.

By fax: 202-267-1277 (Attention: Mr. Evan Setzer, Program Manager, Surveillance and Broadcast Services, AJM-42, Program Management Organization, Federal Aviation Administration).

FOR FURTHER INFORMATION CONTACT: For technical questions concerning this action, contact Mr. Paul Von Hoene, Aviation Safety, Aviation Safety Inspector (AC/OPS) at paul.vonhoene@faa.gov or at (202) 267-8916.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0780.

Title: Service Availability Prediction Tool (SAPT).

Form Numbers: eXtensible markup language (XML) format, ADS-B SAPT flight information entry form, and ADS-B authorization request at https://sapt.faa.gov.

Type of Review: Renewal of an information collection.

Background:

Under 14 CFR 91.103, pilots must use all available information in planning their flight. SAPT is a web-based tool to assist aircraft operators in achieving compliance with the requirements of 14 CFR 91.103, 91.225. and 91.227, and/or AC 90-100A Change 2, Paragraph 10a. (5). To ensure that they will meet the performance requirements for the duration of the flight, pilots may use the FAA-provided pre-flight Service Availability Prediction Tool (SAPT) to determine predicted navigation or surveillance availability before a flight. The SAPT has three main components: the Receiver Autonomous Integrity Monitoring (RAIM) SAPT, the ADS-B SAPT, and the ADS-B Deviation Authorization Pre-Flight Tool (ADAPT). The SAPT models the GPS constellation in order to assess the predicted accuracy and integrity of GPS position information used in navigation and surveillance for a few GPS receiver Technical Standard Orders (TSOs).

The RAIM SAPT is intended mainly for pilots, dispatchers, and commercial operators using TSO-C129 equipment to check their predicted navigation horizontal protection level (HPL). It incorporates TSO-C129 GPS RAIM predictions to check the availability of GPS RAIM satisfying the RNAV requirements of AC 90-100A Change 2, Paragraph 10(5)).

The ADS-B SAPT is provided to help operators comply with 14 CFR 91.225 and 91.227 by predicting whether operators will meet regulatory requirements, and to advise holders of FAA Exemption 12555 whether back-up surveillance will be available for any waypoints where installed aircraft avionics are not predicted to meet the requirements of 14 CFR 91.227(c)(1)(i) and (iii).

Information collected via ADS-B SAPT is comparable to that provided by pilots when they file flight plans, with some additional information about aircraft position source TSO and related capabilities. The ADS-B SAPT prediction is based on the ability of the aircraft's position source (i.e., GPS receiver) to meet performance requirements specified in FAA TSOs C129, C129a, C145c/C146c, and C196, as well as the predicted status of the GPS constellation.

The ADS-B SAPT predicts whether GPS position information will be sufficient throughout the flight to meet the performance requirements of 14 CFR 91.227(c)(1)(i) and (iii). If a waypoint is in rule airspace and the aircraft's position source is not predicted to meet the performance requirements of 14 CFR 91.227, the ADS-B SAPT checks for the availability of back-up surveillance at that waypoint.

Operators of aircraft equipped with TSO-C129 (SA-On) GPS receivers must run a pre-flight prediction. The operator may use their own prediction tool. Although Exemption 12555 does not require operators with SA-On to use the ADS-B SAPT for pre-flight availability prediction, if the operator does use their own tool and receives an indication that performance will fall below rule requirements, the operator cannot obtain back-up surveillance information from that tool and must either replan the flight or use ADS-B SAPT to determine whether back-up surveillance is available along the planned route of flight per Exemption 12555.

ADAPT is mandatory for operators desiring to apply for an ATC authorization, per 14 CFR 91.225(g), to fly in ADS-B Out rule airspace using aircraft with avionics that do not meet the ADS-B equipage requirements. ADAPT allows operators to create an air traffic authorization request to operate in ADS-B Out rule airspace when either (1) the aircraft is without ADS-B equipment; (2) that equipment is inoperative; or (3) their avionics are not expected to meet the ADS-B performance requirements as identified in 14 CFR 91.227(c)(1)(i) and (iii). Operators who wish to submit an ADAPT request must complete the ADS-B SAPT analysis using information entered into the flight information entry form before filing the ADAPT request.

Information Collected: Information collected by SAPT is comparable to that provided in FAA flight plans, with some additional information about the position source. The ADS-B SAPT flight information entry form requires the aircraft call-sign but does not collect other personal identification information about the operator. ADAPT does collect personal information to include name, telephone number, email address. The information is necessary to enable the FAA ATC Authorization Authority (AAA) to reply with either an approval, rejection, or pending decision. It also collects additional information about the flight, including US Civil Aircraft Registry Number or ICAO Address.

Respondents: These prediction tools are primarily intended for pilots and dispatchers; and for anyone who is planning a flight which passes through U.S. sovereign airspace, using an aircraft whose GPS receiver(s) is/are not guaranteed to meet certain performance requirements or whose aircraft is not equipped to meet the requirements of 14 CFR 91.225.

Frequency: As part of the flight planning process, as required by FAA policy. For some users, this could be every flight. For others it will depend on the specific conditions and performance requirements.

Estimated Average Burden per Response:

RAIM SAPT and ADS-B SAPT can be automated as part of the dispatch process by operators or flight service providers, thus eliminating manual data-entry.

RAIM SAPT—Insignificant, as all transactions are automated in flight planning systems.

ADS-B SAPT—5 minutes or less for transactions input via the flight plan form.

ADAPT—7 minutes or less (includes up to 2 minutes to check FAA email response).

Estimated Total Annual Burden:

200 hours for software maintenance for automated responses.

RAIM SAPT—Insignificant additional burden

ADS-B SAPT—Approximately 163,500 minutes.

ADAPT—Approximately 54,720 minutes.

Issued in Washington, DC, on September 20, 2022.
Jamal Wilson,
SAPT Project Lead, In-Service Performance and Sustainment (AJM-4220), Federal Aviation Administration.

[FR Doc. 2022-20661 Filed 9-23-22; 8:45 am]

BILLING CODE 4910-13-P